DEPARTMENT OF ENERGY

Federal Energy Regulatory Commission

[Docket No. IC12-14-000]

Commission Information Collection Activities (FERC-914); Comment Request; Extension

AGENCY: Federal Energy Regulatory Commission, Department of Energy.

ACTION: Notice of information collection and request for comments.

SUMMARY: In compliance with the requirements of the Paperwork Reduction Act of 1995, 44 U.S.C. 3506(c)(2)(A), the Federal Energy Regulatory Commission (Commission or FERC) is soliciting public comment on the currently approved information collection, Cogeneration and Small Power Production—Tariff Filings.

DATES: Comments on the collection of information are due July 24, 2012.

ADDRESSES: You may submit comments (identified by Docket No. IC12-14-000) by either of the following methods:

• eFiling at Commission's Web Site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-914, Cogeneration and Small Power Production—Tariff Filings.

OMB Control No.: 1902-0231.

Type of Request: Three-year extension of the FERC-914 information collection requirements with no changes to the current reporting requirements.

Abstract: Section 205(c) of the Federal Power Act (FPA) requires that every public utility have all of its jurisdictional rates and tariffs on file with the Commission and make them available for public inspection, within such time and in such form as the Commission may designate. Section 205(d) of the FPA requires that every public utility must provide notice to the Commission and the public of any changes to its jurisdictional rates and tariffs, file such changes with the Commission, and make them available for public inspection, in such manner as directed by the Commission. In addition, FPA section 206 requires the Commission, upon complaint or its own motion, to modify existing rates or services that are found to be unjust, unreasonable, unduly discriminatory or preferential. FPA section 207 requires the Commission upon complaint by a state commission and a finding of insufficient interstate service, to order the rendering of adequate interstate service by public utilities, the rates for which would be filed in accordance with FPA sections 205 and 206.

In Orders Nos. 671 and 671-A,¹ the Commission revised its regulations that govern qualifying small power production and cogeneration facilities. Among other things, the Commission eliminated certain exemptions from rate regulation that were previously available to qualifying facilities (QFs). New qualifying facilities may need to make tariff filings if they do not meet the new exemption requirements.

¹ Revised Regulations Governing Small Power Production and Cogeneration Facilities, Order No. 671, 71 FR 7852 (2/15/2006), FERC Stats. & Regs. ¶ 31,203 (2006); and Revised Regulations Governing Small Power Production and Cogeneration Facilities, Order 671-A, 71 FR 30585 (5/30/2006), in Docket No. RM05-36.

FERC implemented the Congressional mandate of the Energy Policy Act of 2005 (EPAct 2005) to establish criteria for new qualifying cogeneration facilities by: (1) Amending the exemptions available to qualifying facilities from the FPA and from PUHCA [resulting in the burden imposed by FERC-914, the subject of this statement]; (2) ensuring that these facilities are using their thermal output in a productive and beneficial manner; that the electrical, thermal, chemical and mechanical output of new qualifying cogeneration facilities is used fundamentally for industrial, commercial, residential or industrial purposes; and there is continuing progress in the development of efficient electric energy generating technology; (3) amending the FERC Form 556 ² to reflect the criteria for new qualifying cogeneration facilities; and (4) eliminating ownership limitations for qualifying cogeneration and small power production facilities. The Commission satisfied the statutory mandate and its continuing obligation to review its policies encouraging cogeneration and small power production, energy conservation, efficient use of facilities and resources by electric utilities and equitable rates for energy customers.

² The FERC-556 is cleared separately as OMB Control No. 1902-0075 and is not a subject of this notice.

Type of Respondents: New qualifying facilities and small power producers that do not meet Commission exemption criteria.

Estimate of Annual Burden: ³ The Commission estimates the total Public Reporting Burden for this information collection as:

³ Burden is defined as the total time, effort, or financial resources expended by persons to generate, maintain, retain, or disclose or provide information to or for a Federal agency. For further explanation of what is included in the information collection burden, reference 5 Code of Federal Regulations 1320.3.

FERC-914 (IC12-14-000): Cogeneration and Small Power Production—Tariff Filings
| Number of respondents | Number of responses per respondent | Total number of responses | Average burden hours per response | Estimated total annual burden
| (A) | (B) | (A) × (B) = (C) | (D) | (C) × (D)
FPA Section 205 filings | 100 | 1 | 100 | 183 | 18,300
Electric Quarterly Reports (initial) | 100 | 1 | 100 | 230 | 23,000
Electric Quarterly Reports (later) | 100 | 3 | 300 | 6 | 1,800
Change of Status | 100 | 1 | 100 | 3 | 300
Total | N/A | N/A | 600 | N/A | 43,400

The total estimated annual cost burden to respondents is $2,995,016 [43,400 hours ÷ 2,080 ⁴ hours/year = 20.86538 * $143,540/year ⁵ = $2,995,016].

⁴ 2080 hours/year = 40 hours/week * 52 weeks/year.

⁵ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 18, 2012.
Kimberly D. Bose,
Secretary.

[FR Doc. 2012-12700 Filed 5-24-12; 8:45 am]

BILLING CODE 6717-01-P